DEPARTMENT OF THE INTERIOR

National Park Service

[NPS-WASO-NRNHL-12256; PPWOCRADI0, PCU00RP14.R50000]

National Register of Historic Places; Notification of Pending Nominations and Related Actions

Nominations for the following properties being considered for listing or related actions in the National Register were received by the National Park Service before January 26, 2013. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by March 20, 2013. Before including your address, phone number, email address, or other personal identifying information in your comment, you should be aware that your entire comment—including your personal identifying information—may be made publicly available at any time. While you can ask us in your comment to withhold your personal identifying information from public review, we cannot guarantee that we will be able to do so.

Dated: February 1, 2013.
Alexandra Lord,
Acting Chief, National Register of Historic Places/National Historic Landmarks Program.

ARKANSAS

Baxter County

Wolf Cemetery, Cty. Rd. 68, Norfork, 13000063

Faulkner County

University of Central Arkansas Historic District, 201 Donaghey Ave., Conway, 13000064

FLORIDA

Duval County

Snyder Memorial Methodist Episcopal Church, 226 N. Laura St., Jacksonville, 13000065

IOWA

Dubuque County

Cathedral Historic District (Boundary Increase) (Dubuque, Iowa MPS), Roughly bounded by 7th, Locust, 4th, Bissel, Jones, Bluff, Emmett & St. Mary's Sts., Dubuque, 13000066

Jones County

Booth, Edmund and Mary Ann Walworth, House, 125 S. Ford St., Anamosa, 13000067

Polk County

Greenwood Park Plats Historic District, Roughly 39th to 42nd Sts., approx. Grand Ave. to Center & Pleasant Sts., 4006, 4024 Grand Ave., Des Moines, 13000068

Poweshiek County

Farmers Mutual Reinsurance Company Building, 821 5th Ave., Grinnell, 13000069

Pioneer Oil Company Filling Station, 831 West St., Grinnell, 13000070

MISSOURI

Crawford County

Uptown Cuba Historic District (Cuba, Missouri MPS), Roughly W. Main Ave., N. & S. Smith & S. Hickory Sts., W. Washington Blvd., Cuba, 13000072

NEW YORK

Genesee County

Tyron, Augustus S., House, 15 Church St., Le Roy, 13000074

New York County

ENTERPRISE (space shuttle), Pier 86, W. 46th St. & 12th Ave., Manhattan, 13000071

Tompkins County

Beach Road Bridge, Beach Road across W. Branch of Cayuga Inlet, Newfield, 13000103

OKLAHOMA

Blaine County

Acre Family Barn, Rt. 2, Box 37, Canton, 13000073

Oklahoma County

Mummers Theater, 400 W. Sheridan Ave., Oklahoma City, 13000075

United Founders Life Tower, 5900 Mosteller Dr., Oklahoma City, 13000076

[FR Doc. 2013-04977 Filed 3-4-13; 8:45 am]

BILLING CODE 4312-51-P